DEPARTMENT OF HEALTH AND HUMAN SERVICES

Centers for Disease Control and Prevention

[30-Day-22-21HU]

Agency Forms Undergoing Paperwork Reduction Act Review

In accordance with the Paperwork Reduction Act of 1995, the Centers for Disease Control and Prevention (CDC) has submitted the information collection request titled HIV Prevention Capacity Development Needs Assessments of Federally funded Health Departments and Community-Based Organizations to the Office of Management and Budget (OMB) for review and approval. CDC previously published a “Proposed Data Collection Submitted for Public Comment and Recommendations” notice on September 7, 2021 to obtain comments from the public and affected agencies. CDC received two non-substantive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

HIV Prevention Capacity Development Needs Assessments of Federally funded Health Departments and Community-Based Organizations—New—National Center for HIV, Viral Hepatitis, STD, and TB Prevention (NCHHSTP), Centers for Disease Control and Prevention (CDC).

Background and Brief Description

The purpose of this data collection is to determine the training and technical assistance (TA) needs of health departments and community-based organizations (CBO) funded by CDC to conduct HIV prevention and surveillance activities. Data will be used to provide the training and TA funded agencies need in a timely and efficient manner by combining the responses and hosting trainings and TA with multiple agency staff at the same time.

Data will be gathered by the CDC through two structured, survey-based assessments hosted on our online training and technical assistance request system. CDC is requesting a three-year approval in order to accommodate the multiple Notifications of Funding Opportunities (NOFO) that inform the U.S. HIV response system at the local and state level.

CDC is requests OMB approval for an estimated 66 annual burden hours. There are no other costs to respondents other than their time.

Estimated Annualized Burden Hours
Type of respondent | Form name | Number of respondents | Number of responses per respondent | Average burden per response (in hours)
Community-based Organization Representatives—Adults | Community-based Organization Needs Assessment | 130 | 1 | 15/60
Health Department Representatives—Adults | Health Department Needs Assessment | 70 | 1 | 15/60

Jeffrey M. Zirger,
Lead, Information Collection Review Office, Office of Scientific Integrity, Office of Science, Centers for Disease Control and Prevention.

[FR Doc. 2022-03075 Filed 2-11-22; 8:45 am]

BILLING CODE 4163-18-P